ELECTION ASSISTANCE COMMISSION

Sunshine Act Meetings

AGENCY: U.S. Election Assistance Commission.

ACTION: Notice of public meeting agenda.

SUMMARY: U.S. Election Assistance Commission Meeting on Moving VVSG 2.0 Forward.

DATES: Wednesday, September 8th, 2021, 1:00 p.m.-3:30 p.m. Eastern.

ADDRESSES:

Virtual via Zoom:

The official meeting is open to the public and will be livestreamed on the U.S. Election Assistance Commission YouTube Channel:

https://www.youtube.com/channel/UCpN6i0g2rlF4ITWhwvBwwZw.

FOR FURTHER INFORMATION CONTACT: Kristen Muthig, Telephone: (202) 897-9285, Email: kmuthig@eac.gov.

SUPPLEMENTARY INFORMATION: Purpose: In accordance with the Government in the Sunshine Act (Sunshine Act), Public Law 94-409, as amended (5 U.S.C. 552b), the U.S. Election Assistance Commission (EAC) will conduct an official meeting discuss various aspects of implementing the newly adopted Voluntary Voting System Guidelines (VVSG) version 2.0 as well as the VVSG Lifecycle Policy.

Agenda: The U.S. Election Assistance Commission (EAC) will meet with panels consisting of voting system manufacturers, voting system test labs (VSTLs), and representatives from the election administration community to discuss various aspects of the final stages of VVSG 2.0 implementation. This includes the state of developing voting system equipment for VVSG 2.0 compliance, preparation for testing against the new requirements, and the need for VVSG 2.0 compliant systems.

The EAC Commissioners will be requesting feedback from the panels on these topics. The EAC Testing and Certification Director will provide a brief update on the status of various aspects from the agency perspective.

Commissioners will also hear from members of the public who wish to offer verbal testimony on the VVSG 2.0 implementation. Public testimony during the hearing will be limited to five minutes maximum per person. If you would like to participate in public testimony, please contact Jon Panek (jpanek@eac.gov) with your full name, email address, and phone number no later than 5 p.m. Eastern Time on September 3, 2021.

The full agenda will be posted in advance on the EAC website: https://www.eac.gov.

Background: On February 10th, 2021 the EAC Commissioners unanimously voted to adopt VVSG 2.0. This vote represents the official approval of years of work by EAC staff in conjunction with the National Institute of Standards and Technology (NIST), the EAC's advisory boards, VVSG working groups, and input from the public on the content in the latest iteration of the VVSG.

The vote to adopt the new requirements does not mean there are new voting systems ready to be certified to the VVSG 2.0. It is the beginning of the final phase of implementing the new requirements in preparation for testing and certifying the next generation of voting system equipment. This final phase of VVSG 2.0 implementation involves a significant amount of work.

Voting system manufacturers must design new equipment for compliance with the VVSG 2.0. This process can take a significant amount of time and research as the manufacturers work through the new requirements to design their equipment.

The NIST NVLAP handbook 150-22, which is utilized as a guideline for accrediting VSTLs, must be updated to include the VVSG 2.0 into its scope. Following that, the VSTLs need to be assessed and accredited by both NVLAP and the EAC once they have completed their preparations for testing to the new requirements. Once a VSTL is successfully accredited, voting system manufacturers may apply with the EAC to have their equipment tested against VVSG 2.0.

The EAC is currently drafting a VVSG Lifecycle Policy. The intent of this policy is to help facilitate migration to the new VVSG 2.0 standard by providing guidance on deprecation of the obsolete standards, establishing a periodic review and update timeline for new standards going forward, and versioning of future standards.

Status: This meeting will be open to the public.

Nichelle Williams,
Director of Research, U.S. Election Assistance Commission.

[FR Doc. 2021-18729 Filed 8-26-21; 11:15 am]

BILLING CODE P